DEPARTMENT OF TRANSPORTATION

Federal Aviation Administration

Thirtieth Meeting: RTCA Special Committee 224, Airport Security Access Control Systems

AGENCY: Federal Aviation Administration (FAA), U.S. Department of Transportation (DOT).

ACTION: Meeting Notice of RTCA Special Committee 224, Airport Security Access Control Systems.

SUMMARY: The FAA is issuing this notice to advise the public of the thirtieth meeting of the RTCA Special Committee 224, Airport Security Access Control Systems.

DATES: The meeting will be held on January 28th, 2015 from 10:00 a.m.-2:00 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 224. The agenda will include the following:

January 28th 2015

• Welcome/Introductions/Administrative Remarks.

• Review/Approve Previous Meeting Summary

• Report from the TSA.

• Report on Safe Skies Document Distribution

• Program Management Committee Direction for Consideration of Operational Guidance

• Revised Terms of Reference—Review/Approval

• Individual Document Section Reports

• Action Items for Next Meeting

• Time and Place of Next Meeting

• Any Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 22, 2014.
Mohannad Dawoud,
Management Analyst, NextGen, Program Oversight and Administration, Federal Aviation Administration.

[FR Doc. 2014-30548 Filed 12-30-14; 8:45 am]

BILLING CODE 4910-13-P